DEPARTMENT OF DEFENSE

Office of the Secretary

[Docket ID DoD-2013-OS-0149]

Submission for OMB Review; Comment Request

ACTION: Notice.

SUMMARY: The Department of Defense has submitted to OMB for clearance, the following proposal for collection of information under the provisions of the Paperwork Reduction Act (44 U.S.C. Chapter 35).

DATES: Consideration will be given to all comments received by July 17, 2014.

FOR FURTHER INFORMATION CONTACT: Fred Licari, 571-372-0493.

SUPPLEMENTARY INFORMATION:

Title, Associated Form and OMB Number: 2014 Speak Up Survey; OMB Control Number; 0704-TBD.

Type of Request: New.

Number of Respondents: 1292.

Responses per Respondent: 1.

Annual Responses: 1292.

Average Burden per Response: 20 minutes.

Annual Burden Hours: 431.

Needs and Uses: The Speak-Up National Survey is an annual online survey created and administered by Project Tomorrow. DoDEA will participate in the survey in order to gather information from students and parents of students attending DoDEA schools on the use of technology in education throughout the United States. The survey provides data on how these groups are using and would like to use technology for learning in and out of school. Broad areas of information gathered via the surveys include: the benefits of using technology for learning; attitudes and interest in math and science, as well as career aspirations; how respondents self-assess their 21st century skills competencies. The information gathered via the surveys does not currently exist, especially in a format that allows comparisons between DoDEA and national trends. The data resulting from the survey will be used by DoDEA as a planning tool and needs assessment. The information from the survey as compared with national trends will be effective in assisting DoDEA in providing well-planned technology initiatives that meet the needs of our military-connected students and other stakeholders. The data will also be used to plan training and professional development for DoDEA employees, especially teachers, as it will accurately reflect the needs of teachers and other staff members alike. The data are essential to meet the President's charge in the recent technology-focused ConnectED initiative as well as the Presidential Study Directive 9: Strengthening Military Families, which states that “The Department of Defense commits to making DOD Education Activity (DODEA) schools a leader in the use of advanced learning technologies that have the potential to significantly improve student performance.”

Affected Public: Individuals or Households.

Frequency: Annually.

Respondent's Obligation: Voluntary.

OMB Desk Officer: Ms. Jasmeet Seehra.

Written comments and recommendations on the proposed information collection should be sent to Ms. Jasmeet Seehra at the Office of Management and Budget, Desk Officer for DoD, Room 10236, New Executive Office Building, Washington, DC 20503.

You may also submit comments, identified by docket number and title, by the following method:

• Federal eRulemaking Portal: http://www.regulations.gov. Follow the instructions for submitting comments.

Instructions: All submissions received must include the agency name, docket number and title for this Federal Register document. The general policy for comments and other submissions from members of the public is to make these submissions available for public viewing on the Internet at http://www.regulations.gov as they are received without change, including any personal identifiers or contact information.

DOD Clearance Officer: Ms. Patricia Toppings.

Written requests for copies of the information collection proposal should be sent to Ms. Toppings at WHS/ESD Information Management Division, 4800 Mark Center Drive, East Tower, Suite 02G09, Alexandria, VA 22350-3100.

Dated: June 12, 2014.
Aaron Siegel,
Alternate OSD Federal Register Liaison Officer, Department of Defense.

[FR Doc. 2014-14115 Filed 6-16-14; 8:45 am]

BILLING CODE 5001-06-P